Proclamation 9944 of October 4, 2019

Child Health Day, 2019

By the President of the United States of America

A Proclamation

On Child Health Day, we recognize that America's children are the promise of our Nation, and their health and well-being are among our greatest responsibilities. Today, we recommit to our children growing strong, dreaming big, and reaching their full potential.

In partnership with families and communities, my Administration is implementing new Federal programs and supporting new State-level initiatives that help diagnose, prevent, and combat diseases and maintain health and wellness from childhood through adulthood. The Maternal and Child Health Services Block Grant Program continues to provide funding to all States to improve access to quality healthcare services for low-income women, children, and families by improving the outcomes of high-risk pregnancies, reducing infant deaths, promoting childhood immunizations, and protecting against diseases. Additionally, I have approved funding for the Maternal, Infant, and Early Childhood Home Visiting Program to support Federal, State, and community partners in offering voluntary home visiting services that empower caregivers with the evidence-based skills and resources they need to raise healthy and happy children. I also signed into law the SUPPORT Act, which addresses the most vulnerable victims of the opioid crisis by allowing State Medicaid programs to cover healthcare services for infants suffering from neonatal abstinence syndrome in residential pediatric recovery centers.

My Administration is also working to eradicate the leading cause of post-infancy death among our Nation's young people—childhood cancer. Working with the Congress, the Federal Government will invest $500 million over the next decade in pediatric cancer research. This funding will enable our Nation's best scientists and doctors to learn from those young people living with this disease, creating new opportunities to understand the unique causes of and best cures for childhood cancer. We must continue to employ every resource available to ensure that the more than 15,000 children and adolescents under the age of 19 diagnosed with cancer each year receive the best possible care and treatment so they can triumph in their battle against this horrible disease.

America's young people are facing unprecedented challenges at school, in their homes, and in their communities. From bullying and negative social media interactions to the impacts of the opioid crisis on themselves and their loved ones, we must do more to foster an environment that promotes a culture of respect for every human life. That is why I am proud of the work our First Lady, Melania Trump, has undertaken through her BE BEST initiative to promote childhood health and well-being by encouraging healthy living, kindness, compassion, and respect. This remarkable program is helping children build a solid foundation to navigate life's many challenges and to develop positive social, emotional, and physical habits that will help them become future leaders of our great country.

Parents play a critical role in raising healthy and happy children, and their important work is bolstered by the love and support of extended family, community members, caregivers, mentors, educators, faith leaders, and respectable role models. On Child Health Day, we urge all citizens to reaffirm their commitment to ensuring the physical, spiritual, and emotional health of our Nation's most precious resource.

The Congress, by a joint resolution approved May 18, 1928, as amended (36 U.S.C. 105), has called for the designation of the first Monday in October as Child Health Day and has requested that the President issue a proclamation in observance of this day.

NOW, THEREFORE, I, DONALD J. TRUMP, President of the United States of America, by virtue of the authority vested in me by the Constitution and the laws of the United States, do hereby proclaim Monday, October 7, 2019, as Child Health Day. I call upon families, child health professionals, faith-based and community organizations, and governments to help ensure that America's children stay safe and healthy.

IN WITNESS WHEREOF, I have hereunto set my hand this fourth day of October, in the year of our Lord two thousand nineteen, and of the Independence of the United States of America the two hundred and forty-fourth.

[FR Doc. 2019-22220

Filed 10-8-19; 8:45 am]

Billing code 3295-F0-P